DEPARTMENT OF HEALTH AND HUMAN SERVICES

Centers for Disease Control and Prevention

Disease, Disability, and Injury Prevention and Control Special Emphasis Panel (SEP): Initial Review

The meeting announced below concerns Detecting Emerging Vector-Borne Zoonotic Pathogens in Indonesia, Funding Opportunity Announcement (FOA) CK12-002, initial review.

Correction: The notice was published in the Federal Register on March 2, 2012, Volume 77, Number 42, Page 12844. The time and date should read as follows:

Time and Date: 1 p.m.-3 p.m., April 16, 2012 (Closed).

Contact Person for More Information: Gregory Anderson, M.P.H., M.S., Scientific Review Officer, CDC, 1600 Clifton Road, NE., Mailstop E60, Atlanta, Georgia 30333, Telephone: (404) 718-8833.

The Director, Management Analysis and Services Office, has been delegated the authority to sign Federal Register notices pertaining to announcements of meetings and other committee management activities, for both the Centers for Disease Control and Prevention and the Agency for Toxic Substances and Disease Registry.

Dated: March 30, 2012.
Elaine L. Baker,
Director, Management Analysis and Services Office, Centers for Disease Control and Prevention.

[FR Doc. 2012-8286 Filed 4-5-12; 8:45 am]

BILLING CODE 4163-18-P